NUCLEAR REGULATORY COMMISSION

[Docket Nos. 50-277 and 50-278; NRC-2018-0266]

Exelon Generation Company, LLC; Peach Bottom Atomic Power Station; Units 2 and 3

AGENCY: Nuclear Regulatory Commission.

ACTION: License amendment application; withdrawal by applicant.

SUMMARY: The U.S. Nuclear Regulatory Commission (NRC) has granted the request of Exelon Generation Company, LLC to withdraw its application dated September 27, 2018, for proposed amendments to Renewed Facility Operating License Nos. DPR-44 and DPR-56. The proposed amendments would have modified Technical Specification (TS) 3.3.6.2, “Secondary Containment Isolation Instrumentation.”

DATES: March 27, 2019.

ADDRESSES: Please refer to Docket ID NRC-2018-0266 when contacting the NRC about the availability of information regarding this document. You may obtain publicly-available information related to this document using any of the following methods:

• Federal Rulemaking Website: Go to http://www.regulations.gov and search for Docket ID NRC-2018-0266. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The “Peach Bottom, Units 2 and 3, License Amendment Request—Technical Specifications Section 3.3.6.2 Functions 3 and 4 Applicability Changes Pertaining to Reactor Building and Refueling Floor Ventilation,” is available in ADAMS under Accession No. ML18271A009.

• NRC's PDR: You may examine and purchase copies of public documents at the NRC's PDR, Room O1-F21, One White Flint North, 11555 Rockville Pike, Rockville, Maryland 20852.

FOR FURTHER INFORMATION CONTACT: Jennifer Tobin, Office of Nuclear Reactor Regulation, U.S. Nuclear Regulatory Commission, Washington DC 20555-0001; telephone: 301-415-2328; email: Jennifer.Tobin@nrc.gov.

SUPPLEMENTARY INFORMATION: The NRC has granted the request of Exelon Generation Company, LLC (the licensee) to withdraw its September 27, 2018, application (ADAMS Accession No. ML18271A009) for proposed amendments to Renewed Facility Operating License Nos. DPR-44 and DPR-56 for the Peach Bottom Atomic Power Station, Units 2 and 3, respectively, located in York County, Pennsylvania.

The proposed amendments would have authorized revisions to TS 3.3.6.2, “Secondary Containment Isolation Instrumentation,” to modify the applicability of Functions 3 and 4. Specifically, Function 3 (reactor building ventilation exhaust radiation—high) would have been revised to only be required when Function 4 (refueling floor ventilation exhaust radiation—high) was not maintained. Function 4 would have been revised to only be required when Function 3 was not maintained. Further, this change would have clarified which standby gas treatment subsystems were required to be put into operation or declared inoperable as described in TS 3.3.6.2, Condition C, for Required Actions C.2.1 and C.2.2.

On November 20, 2018, a Federal Register notice was published (83 FR 58612) indicating a finding of no significant impact for the proposed license amendment. On March 11, 2019 (ADAMS Accession No. ML19071A062), the licensee sent a letter requesting withdrawal of the license amendment application.

Dated at Rockville, Maryland, this 21st day of March, 2019.
For the Nuclear Regulatory Commission.
Jennifer C. Tobin,
Project Manager, Plant Licensing Branch LPL-1, Division of Operating Reactor Licensing, Office of Nuclear Reactor Regulation.

[FR Doc. 2019-05804 Filed 3-26-19; 8:45 am]

BILLING CODE 7590-01-P